Title 3—

The President

Proclamation 9551 of December 6, 2016

National Pearl Harbor Remembrance Day, 2016

By the President of the United States of America

A Proclamation

Seventy-five years ago, Japanese fighter planes attacked the United States Naval Base at Pearl Harbor, destroying much of our Pacific Fleet and killing more than 2,400 Americans. The following day, President Franklin D. Roosevelt called on the Congress to declare war and “make it very certain that this form of treachery shall never again endanger us.” In that spirit, Americans came together to pay tribute to the victims, support the survivors, and shed the comforts of civilian life to serve in our military and fight for our Union. Each year on National Pearl Harbor Remembrance Day, we honor those whose lives were forever changed that December morning and resolve to uphold the legacy of all who stepped forward in our time of need.

From the docks of Pearl Harbor to the beaches of Normandy and far around the world, brave patriots served their country and defended the values that have sustained our Nation since its founding. They went to war for liberty and sacrificed more than most of us will ever know; they chased victory and defeated fascism, turning adversaries into allies and writing a new chapter in our history. Through their service and unparalleled devotion, they inspired a generation with their refusal to give in despite overwhelming odds. And as we reflect on the profound debt of gratitude we owe them for the freedoms we cherish, we are reminded of the everlasting responsibilities we have to one another and to our country.

In memory of all who lost their lives on December 7, 1941—and those who responded by leaving their homes for the battlefields—we must ensure the sacrifices they made in the name of liberty and democracy were not made in vain. On this solemn anniversary, there can be no higher tribute to these American patriots than forging a united commitment to honor our troops and veterans, give them the support and care they deserve, and carry on their work of keeping our country strong and free.

The Congress, by Public Law 103-308, as amended, has designated December 7 of each year as “National Pearl Harbor Remembrance Day.”

NOW, THEREFORE, I, BARACK OBAMA, President of the United States of America, do hereby proclaim December 7, 2016, as National Pearl Harbor Remembrance Day. I encourage all Americans to observe this solemn day of remembrance and to honor our military, past and present, with appropriate ceremonies and activities. I urge all Federal agencies and interested organizations, groups, and individuals to fly the flag of the United States at half-staff this December 7 in honor of those American patriots who died as a result of their service at Pearl Harbor.

IN WITNESS WHEREOF, I have hereunto set my hand this sixth day of December, in the year of our Lord two thousand sixteen, and of the Independence of the United States of America the two hundred and forty-first.

[FR Doc. 2016-29808

Filed 12-8-16; 11:15 am]

Billing code 3295-F7-P